NATIONAL AERONAUTICS AND SPACE ADMINISTRATION

[Notice 13-126]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The Meeting will be held via Teleconference and Webex for the purpose of soliciting from the scientific community and other persons scientific and technical information relevant to program planning.

DATES: Tuesday, November 19, 2013, 11:00 a.m. to 5:00 p.m., Eastern Time

This meeting will take place telephonically and by WebEx. Any interested person may call the USA toll free conference call number 800-779-4348, pass code 38250, to participate in this meeting by telephone. The WebEx link is https://nasa.webex.com/, meeting number 999 713 790, passcode APS@Nov19.

FOR FURTHER INFORMATION CONTACT: Ms. Ann Delo, Science Mission Directorate, NASA Headquarters, Washington, DC 20546, (202) 358-0750, fax (202) 358-2779, or ann.b.delo@nasa.gov.

SUPPLEMENTARY INFORMATION: The agenda for the meeting includes the following topics:

—Astrophysics Division Update

—Presentation of Astrophysics Roadmap

—Reports from Program Analysis Groups: Exoplanet Exploration Program Analysis Group, Physics of the Cosmos Program Analysis Group, and Cosmic Origins Program Analysis Group

It is imperative that the meeting be held on these dates to accommodate the scheduling priorities of the key participants.

Patricia D. Rausch,
Advisory Committee Management Officer, National Aeronautics and Space Administration and Space Administration.

[FR Doc. 2013-26445 Filed 11-4-13; 8:45 am]

BILLING CODE 7510-13-P